UNIFIED CARRIER REGISTRATION PLAN

Sunshine Act Meeting

TIME AND DATE: January 27, 2022, from 12:00 p.m. to 3:00 p.m., Eastern time.

PLACE: This meeting will be accessible via conference call and screensharing. Any interested person may call 877-853-5247 (US toll free), 888-788-0099 (US toll free), +1 929-205-6099 (US toll), or +1 669-900-6833 (US toll), Conference ID 997 9209 5957, to participate in the meeting. The website to participate via Zoom meeting and screenshare is https://kellen.zoom.us/meeting/register/tJ0qfuuopz4jH9OuYMzVZU5qWXmcuft08lcA.

STATUS: This meeting will be open to the public.

MATTERS TO BE CONSIDERED: The Unified Carrier Registration Plan Board of Directors (the “Board”) will continue its work in developing and implementing the Unified Carrier Registration Plan and Agreement. The subject matter of the meeting will include:

Agenda

I. Welcome and Call to Order—UCR Board Chair

The UCR Board Chair will welcome attendees, call the meeting to order, call roll for the Board, confirm the presence of a quorum, and facilitate self-introductions.

II. Verification of Publication of Meeting Notice—UCR Executive Director

The UCR Executive Director will verify publication of the meeting notice on the UCR website and distribution to the UCR contact list via email followed by subsequent publication of the notice in the Federal Register.

III. Review and Approval of Board Agenda—UCR Board Chair

For Discussion and Possible Action

The proposed Agenda will be reviewed, and the Board will consider adoption.

Ground Rules

➢ Board actions taken only in designated areas on agenda

IV. Approval of Board Minutes of the December 16, 2021 UCR Board Meeting—UCR Board Chair

For Discussion and Possible Action

Draft Minutes from the December 16, 2021 UCR Board meeting will be reviewed. The Board will consider action to approve.

V. Report of the Federal Motor Carrier Safety Administration (FMCSA)—FMCSA Representative

The FMCSA will provide a report on any relevant activity.

VI. Extension of UCR Plan/Kellen Company Contract—UCR Executive Director and UCR Board Chair

For Discussion and Possible Board Action

The UCR Executive Director and the UCR Board Chair will present and discuss with the Board a 1-year extension to the existing agreement between the UCR Plan and the Kellen Company. The Board may take action to approve the extension.

VII. Subcommittee Reports

Audit Subcommittee—UCR Audit Subcommittee Chair

A. Update to Internal Controls Accounting Guidelines—UCR Executive Director and UCR Depository Manager

For Discussion and Possible Board Action

The UCR Executive Director and the UCR Depository Manager will discuss potential amendments to the UCR Accounting Guidelines based on recommendations from a report on the internal controls review that was performed by an independent audit firm, Williams, Benator & Libby (WBL). Enhancements to the internal controls policies recommended by WBL in their report have been included in the proposed update to the written internal controls of the UCR Plan. The Board may consider adoption of the amendments to the UCR Accounting Guidelines.

B. UCR Compliance Snapshot—UCR Audit Subcommittee Chair

The UCR Audit Subcommittee Chair, supported by the UCR Vice-Chair and DSL Transportation, Inc., will review audit compliance rates for the states for registration years 2020, 2021, and 2022 and included compliance percentages for Focused Anomaly Reviews (FARs), retreat audits, and registration compliance percentages as mandated by the UCR Board. A new element is being added that focuses on the states' enforcement and citations actually issued versus the “Should Have Been” (“SHB”) road-stops that were not cited. The new feature ranks the states based on citation percentages.

Finance Subcommittee—UCR Finance Subcommittee Chair

A. Certificate of Deposit (CD) for Financial Reserve—UCR Finance Subcommittee Chair and UCR Depository Manager

For Discussion and Possible Board Action

The UCR Depository Manager will present and discuss options for investing the proceeds from a CD that will mature on February 05, 2022. The Board may take action approving one of the presented options or another option for reinvesting the proceeds from the maturing CD.

B. Distribution From the UCR Depository for 2022 Registration Year—UCR Finance Subcommittee Chair and UCR Depository Manager

The UCR Finance Subcommittee Chair and the UCR Depository Manager will provide an update on the timing for a distribution of fees from the UCR Depository to states that have not yet reached their revenue entitlements for the 2022 registration year.

Education and Training Subcommittee—UCR Education and Training Subcommittee Chair

A. Update on Current and Future Training Initiatives—UCR Education and Training Subcommittee Chair

The UCR Education and Training Subcommittee Chair and the UCR Operations Manager will provide an update on current and future training initiatives for the UCR Plan.

VIII. Contractor Reports—UCR Executive Director

• UCR Executive Director's Report

The UCR Executive Director will provide a report covering recent activity for the UCR Plan.

• DSL Transportation Services, Inc.

DSL Transportation Services, Inc. will report on the latest data from the FARs program, discuss motor carrier inspection results, and other matters.

• Seikosoft

Seikosoft will provide an update on recent/new activity related to the National Registration System.

• UCR Administrator Report (Kellen)

The UCR staff will provide a management report covering recent activity for the Depository, Operations, and Communications.

IX. Other Business—UCR Board Chair

The UCR Board Chair will call for any other items Board members would like to discuss.

X. Adjournment—UCR Board Chair

The UCR Board Chair will adjourn the meeting.

This agenda will be available no later than 5:00 p.m. Eastern time, January 20, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-01413 Filed 1-20-22; 4:15 pm]

BILLING CODE 4910-YL-P